Title 3—

The President

Notice of March 13, 2012

Continuation of the National Emergency With Respect to Iran Executive Order 12957

On March 15, 1995, by Executive Order 12957, the President declared a national emergency with respect to Iran, pursuant to the International Emergency Economic Powers Act (50 U.S.C. 1701-1706), to deal with the unusual and extraordinary threat to the national security, foreign policy, and economy of the United States constituted by the actions and policies of the Government of Iran. On May 6, 1995, the President issued Executive Order 12959, imposing more comprehensive sanctions to further respond to this threat; on August 19, 1997, the President issued Executive Order 13059, consolidating and clarifying the previous orders; and I issued Executive Order 13553 of September 28, 2010, Executive Order 13574 of May 23, 2011, Executive Order 13590 of November 20, 2011, and Executive Order 13599 of February 5, 2012, to take additional steps pursuant to this national emergency.

Because the actions and policies of the Government of Iran continue to pose an unusual and extraordinary threat to the national security, foreign policy, and economy of the United States, the national emergency declared on March 15, 1995, must continue in effect beyond March 15, 2012. Therefore, in accordance with section 202(d) of the National Emergencies Act (50 U.S.C. 1622(d)), I am continuing for 1 year the national emergency with respect to Iran. Because the emergency declared by Executive Order 12957 constitutes an emergency separate from that declared on November 14, 1979, by Executive Order 12170, this renewal is distinct from the emergency renewal of November 2011. This notice shall be published in the Federal Register and transmitted to the Congress.

THE WHITE HOUSE,

March 13, 2012.

[FR Doc. 2012-6426

Filed 3-13-12; 2:00 pm]

Billing code 3295-F2-P